DEPARTMENT OF COMMERCE

International Trade Administration

[A-570-912]

Certain New Pneumatic Off-the-Road Tires From the People's Republic of China: Notice of Amended Final Determination Pursuant to a Final Court Decision

AGENCY: Enforcement and Compliance, International Trade Administration, Department of Commerce.

SUMMARY: On October 1, 2010, the United States Court of International Trade (“CIT”) sustained the remand redetermination made by the Department of Commerce (“Department”) pursuant to the CIT's remand of the final determination in the antidumping duty investigation on certain new pneumatic off-the-road tires (“OTR tires”) from the People's Republic of China (“PRC”). This case arises out of the Department's final determination in the antidumping duty (“AD”) investigation on OTR tires from the PRC. See Certain New Pneumatic Off-The-Road-Tires from the People's Republic of China: Final Affirmative Determination of Sales at Less Than Fair Value and Partial Affirmative Determination of Critical Circumstances, 73 FR 40485 (July 15, 2008), as amended by Certain New Pneumatic Off-the-Road Tires from the People's Republic of China: Notice of Amended Final Affirmative Determination of Sales at Less than Fair Value and Antidumping Duty Order, 73 FR 51624 (September 4, 2008) (collectively, “Final Determination”).

The Department notified the public that the final CIT judgment (See GPX Int'l Tire Corp. v. United States, Consol. Ct. No. 08-00285, Slip Op. 10-112 (Ct. Int'l Trade October 1, 2010) (“GPX III”) in this case was not in harmony with the Department's final affirmative determination in the AD investigation of OTR tires from the PRC on October 12, 2010. See Certain New Pneumatic Off-the-Road Tires from the People's Republic of China: Notice of Decision of the Court of International Trade Not in Harmony, 75 FR 62504 (October 12, 2010) (“2010 Timken Notice”). As there is now a final and conclusive decision in this case, the Department is amending its final determination with respect to the antidumping duty rate calculated for the separate rate companies.

DATES: Effective March 23, 2015.

FOR FURTHER INFORMATION CONTACT: Andrew Medley, AD/CVD Operations, Office III, Enforcement and Compliance, International Trade Administration, U.S. Department of Commerce, 14th Street and Constitution Avenue NW., Washington, DC 20230; telephone (202) 482-4987.

SUPPLEMENTARY INFORMATION:

Background

In July 2008, the Department published a final determination in which it found that OTR tires from the PRC are being, or are likely to be, sold in the United States at less-than-fair-value (“LTFV”).¹ As part of the Final Determination, the Department calculated a margin for the separate-rate respondents of 12.91 percent.² Starbright Tire Co., Ltd. (“Starbright”), its importer GPX International Tire Corporation (“GPX”), petitioners Titan Tire Corporation and the United Steel, Paper and Forestry, Rubber, Manufacturing, Energy, Allied and Industrial Service Workers International Union, AFL-CIO-CLC (collectively, “Titan”), and domestic interested party Bridgestone Americas, Inc. and Bridgestone Americas Tire Operations, LLC (collectively, “Bridgestone”), each timely challenged various aspects of the Final Determination to the CIT. The antidumping duty case was then consolidated with the companion countervailing duty case at the CIT. With regard to the antidumping duty case, among the issues raised before the Court was the valuation of wire input consumed by two of the respondent companies, Starbright and Tianjin United Tire & Rubber International Co., Ltd. (“TUTRIC”), under the factors of production methodology to calculate normal value in a non-market economy country pursuant to section 773(c)(1)(B) of the Tariff Act of 1930, as amended (“the Act”).

¹ See Final Determination.

² Id., 73 FR at 51625.

On August 4, 2010, pursuant to the Department's request for a voluntary remand, the CIT remanded the wire input valuation issue to the Department for reconsideration or further explanation.³ In a remand redetermination filed on September 3, 2010, the Department determined that record evidence supported using a different surrogate value for the wire input consumed by Starbright and TUTRIC in the production of OTR tires.⁴ As a result of this change, the weighted-average dumping margin calculated for subject merchandise produced by Starbright and exported by Starbright/GPX changed from 29.93 percent to 31.79 percent, the weighted average dumping margin calculated for subject merchandise produced and exported by TUTRIC changed from 8.44 percent to 10.08 percent, and the weighted-average dumping margin calculated for separate rate companies changed from 12.91 percent to 13.92 percent.⁵ The CIT affirmed the Department's remand redetermination on October 1, 2010.⁶ On October 12, 2010, the Department notified the public that the final CIT judgment in this case was not in harmony with the Department's final affirmative determination in the AD investigation of OTR tires from the PRC.⁷ Subsequently, domestic litigation over issues pertaining to the consolidated countervailing duty case continued.⁸ On March 13, 2015, the United States Court of Appeals for the Federal Circuit (“Federal Circuit”) issued a final and conclusive decision in this case, which no party appealed.⁹ Because there is now a final and conclusive court decision in this case, the Department is amending the final determination for the separate rate respondents.

³ See GPX Int'l Tire Corp. v. United States, Consol. Ct. No. 08-00285, Slip Op. 10-84 at *19-*20, *28 (Ct. Int'l Trade August 4, 2010) (“GPX II”).

⁴ See Second Remand Redetermination, GPX Int'l Tire Corp. v. United States, Consol. Ct. No. 08-00285, dated September 3, 2010, at 4-9.

⁵ Id. at 9-12.

⁶ See GPX III.

⁷ See 2010 Timken Notice, 75 FR 62504.

⁸ A summary of this litigation can be found in Certain New Pneumatic Off-the Road Tires from the People's Republic of China: Corrected Notice of Decision of the Court of International Trade Not in Harmony and Corrected Notice of Amended Final Determination, 80 FR 31889 (June 4, 2015) (“2015 Timken Notice”).

⁹ See GPX Int'l Tire Corp. v. United States, 780 F.3d 1136 (Fed. Cir. 2015).

Amended Final Determination

Since the Final Determination, the Department has established a new cash deposit rate for TUTRIC and for Starbright.¹⁰ Therefore, this amended final determination does not change TUTRIC's or Starbright's cash deposit rates. Because there is now a final and conclusive court decision with respect to the Final Determination, the revised cash deposit rate for the separate rate companies is 13.92 percent. For those separate-rate companies that do not have a superseding cash deposit rate identified in the table below, the Department will issue revised cash deposit instructions to U.S. Customs and Border Protection, adjusting the cash deposit rate for the below separate-rate companies to 13.92 percent, effective March 23, 2015.¹¹

¹⁰ For Starbright/GPX, see Certain New Pneumatic Off-the-Road Tires From the People's Republic of China: Final Results of the 2008-2009 Antidumping Duty Administrative Review, 76 FR 22871 (April 25, 2011). For TUTRIC, see Certain New Pneumatic Off-the-Road Tires From the People's Republic of China: Final Results of the 2009-2010 Antidumping Duty Administrative Review and Final Rescission, in Part, 77 FR 14495 (March 12, 2012).

¹¹ See 2015 Timken Notice; see also GPX Int'l Tire Corp. v. United States, Consol. Ct. No. 08-00285, Slip Op. 15-46 (CIT May 18, 2015).

Exporter | Producer | Weighted-average margin (percent)
Aeolus Tyre Co., Ltd | Aeolus Tyre Co., Ltd | 13.92
Double Happiness Tyre Industries Corp., Ltd | Double Happiness Tyre Industries Corp., Ltd | 13.92
Jiangsu Feichi Co., Ltd | Jiangsu Feichi Co., Ltd | 13.92
Oriental Tyre Technology Limited | Midland Off The Road Tire Co., Ltd | 13.92
Oriental Tyre Technology Limited | Midland Specialty Tire Co., Ltd | 13.92
Oriental Tyre Technology Limited | Xuzhou Hanbang Tyres Co., Ltd | 13.92
Qingdao Etyre International Trade Co., Ltd | Shandong Xingda Tyre Co. Ltd | 13.92
Qingdao Etyre International Trade Co., Ltd | Shandong Xingyuan International Trade Co. Ltd | 13.92
Qingdao Etyre International Trade Co., Ltd | Shandong Xingyuan Rubber Co. Ltd | 13.92
Qingdao Hengda Tyres Co., Ltd | Qingdao Hengda Tyres Co., Ltd | 13.92
Qingdao Milestone Tyre Co., Ltd | Qingdao Shuanghe Tyre Co., Ltd | 13.92
Qingdao Milestone Tyre Co., Ltd | Shandong Zhentai Tyre Co., Ltd | 13.92
Qingdao Milestone Tyre Co., Ltd | Shifeng Double-Star Tire Co., Ltd | 13.92
Qingdao Milestone Tyre Co., Ltd | Weifang Longtai Tyre Co., Ltd | 13.92
Qingdao Qizhou Rubber Co., Ltd | Qingdao Qizhou Rubber Co., Ltd | 13.92
Qingdao Sinorient International Ltd | Qingdao Hengda Tyres Co., Ltd | 13.92
Qingdao Sinorient International Ltd | Shifeng Double-Star Tire Co., Ltd | 13.92
Qingdao Sinorient International Ltd | Tengzhou Broncho Tyre Co., Ltd | 13.92
Shandong Huitong Tyre Co., Ltd | Shandong Huitong Tyre Co., Ltd | 13.92
Shandong Jinyu Tyre Co., Ltd | Shandong Jinyu Tyre Co., Ltd | 13.92
Shandong Taishan Tyre Co., Ltd | Shandong Taishan Tyre Co., Ltd | 13.92
Shandong Wanda Boto Tyre Co., Ltd | Shandong Wanda Boto Tyre Co., Ltd | 13.92
Shandong Xingyuan International Trading Co., Ltd | Shangdong Xingda Tyre Co., Ltd | 13.92
Shandong Xingyuan International Trading Co., Ltd | Xingyuan Tyre Group Co., Ltd | 13.92
Techking Tires Limited | Shandong Xingda Tyre Co. Ltd | 13.92
Techking Tires Limited | Shandong Xingyuan International Trade Co. Ltd | 13.92
Techking Tires Limited | Shandong Xingyuan Rubber Co. Ltd | 13.92
Triangle Tyre Co., Ltd | Triangle Tyre Co., Ltd | 13.92
Wendeng Sanfeng Tyre Co., Ltd | Wendeng Sanfeng Tyre Co., Ltd | 13.92
Kenda Rubber (China) Co., Ltd./Kenda Global | Kenda Rubber (China) Co., Ltd | 13.92
Qingdao Aonuo Tyre Co., Ltd | Qingdao Aonuo Tyre Co., Ltd | 13.92

Notification to Interested Parties

This notice is issued and published in accordance with sections 516A(e)(1) and 777(i)(1) of the Act.

Dated: June 28, 2016.
Paul Piquado,
Assistant Secretary for Enforcement and Compliance.

[FR Doc. 2016-17308 Filed 7-21-16; 8:45 am]

BILLING CODE 3510-DS-P